COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA) that a planning meeting of the Connecticut Advisory Committee to the Commission will convene at 1:00 p.m. (EDT) on Thursday, October 28, 2015, by teleconference. The purpose of the planning meeting is for the Committee to discuss civil rights topics and potential projects and vote on an issue for the Committee to examine in a 2016 briefing meeting.

Interested members of the public may listen to the discussion by calling the following toll-free conference call number 1-888-587-0615 and conference call code: 682009#. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number.

Persons with hearing impairments may also follow the discussion by first calling the Federal Relay Service at 1-800-977-8339 and providing the operator with the above conference call number and conference call code.

Members of the public are invited to submit written comments; the comments must be received in the regional office by Monday, November 30, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at: https://database.faca.gov/committee/meetings.aspx?cid=239. Records generated from this meeting may also be inspected and reproduced at the Eastern Regional Office, as they become available, both before and after the meeting. Persons interested in the work of this advisory committee are advised to go to the Commission's Web site, www.usccr.gov, or to contact the Eastern Regional Office at the above phone number, email or street address.

Agenda

Administrative Matters

Barbara Delaviez, Deputy Director, Eastern Regional Office and Designated Federal

Official

Discussion of Potential Civil Rights topics

Alex A. Knopp, Chair

Vote to Select a Topic

CT State Advisory Committee

DATES: Thursday, October 28, 2015 at 1:00 p.m. (EDT).

ADDRESSES: The meeting will be held via teleconference:

Public Call Information:

Conference Call-in Number: 1-888-587-0615; Conference Call ID code: 682009#.

TDD: Dial Federal Relay Service 1-800-977-8339 and give the operator the above conference all-in number and conference call code.

FOR FURTHER INFORMATION CONTACT: Ivy L. Davis at ero@usccr.gov, or 202-376-7533.

Dated: September 28, 2015.
David Mussatt,
Chief, Regional Programs Unit.

[FR Doc. 2015-25034 Filed 10-1-15; 8:45 am]

BILLING CODE 6335-01-P